FEDERAL COMMUNICATIONS COMMISSION

Radio Broadcasting Services; AM or FM Proposals To Change the Community of License

AGENCY: Federal Communications Commission.

ACTION: Notice.

SUMMARY: The following applicants filed AM or FM proposals to change the community of License: Chehalis Valley Educational Foundation, Station KBSG, Facility ID 174954, BPED-20170329ABV, From Westport, WA, To Raymond, WA; Cochise Broadcasting, LLC, Station KKYZ, Facility ID 2185, BMPH-20170224AAW, From Sierra Vista, AZ, To Catalina Foothills, AZ; Educational Media Foundation, Station KWAO, Facility ID 121867, BPED-20170213AAP, From Ocean Park, WA, To Vashon, WA; Educational Media Foundation, Station KLOY, Facility ID 93999, BPED-20170213AAQ, From Astoria, OR, To Ocean Park, WA; Educational Media Foundation, Station KILV, Facility ID 87226, BPED-20170317AAB, From Castana, IA, To Whiting, IA; Evans Broadcasting, Inc., Station KCUA, Facility ID 13483, BPH-20170223ABR, From Naples, UT, To Maeser, UT; Gateway Radio Work, Inc., Station WGWM, Facility ID 24221, BP-20170206ABA, From London, KY, To Winchester, KY; Inspiration Time, Inc., Station WCTL, Facility ID 28774, BPH-20170221ACH, From Union City, PA, To Erie, PA; Mercyhurst University, Station WMCE, Facility ID 26610, BP-20170221ACI, From North East, PA, To Union City, PA; Mid-West Management, Inc., Station WECL, Facility ID 64011, BPH-20170303ABG, From Elk Mound, WI, To Lake Hallie, WI; Mid-West Management, Inc., Station WIAL, Facility ID 7063, BPH-20170303ABH, From Eau Claire, WI, To Elk Mound, WI; Radio License Holding SRC, LLC., Station KFFG, Facility ID 58843, BPH-20170216ABR, From Los Altos, CA, To San Jose, CA; Wifredo G. Blanco-PI, Station WVOZ, Facility ID 72452, BP-20170327AAF, From Morovis, PR, To Aguadilla, PR.

DATES: The agency must receive comments on or before June 27, 2017.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2017-08585 Filed 4-27-17; 8:45 am]

BILLING CODE 6712-01-P